DEPARTMENT OF AGRICULTURE

Food Safety and Inspection Service

[Docket No. FSIS-2022-0013]

Salmonella in Not-Ready-To-Eat Breaded Stuffed Chicken Products; Correction

AGENCY: Food Safety and Inspection Service, USDA.

ACTION: Notice; correction.

SUMMARY: The Food Safety and Inspection Service (FSIS) is publishing a correction to a proposed determination that published on April 28, 2023. The correction inserts missing information on how to access the proposed determination's Cost Benefit Analysis on the FSIS website.

DATES: This correction is effective July 3, 2023.

FOR FURTHER INFORMATION CONTACT: Rachel Edelstein, Assistant Administrator, Office of Policy and Program Development, FSIS, USDA; Telephone: (202) 205-0495.

SUPPLEMENTARY INFORMATION:

Correction

In the Federal Register of April 28, 2023, in FR Doc. 2023-09043, on page 26267, in the first column, under the heading V. Anticipated Costs and Benefits Associated With This Proposed Determination, FSIS is correcting the statement “[t]he full analysis is published on the FSIS website as supporting documentation to this Federal Register Notice ([insert link]).” to provide the information on how to access the full Cost-Benefit Analysis. The correct link to this information is: https://www.fsis.usda.gov/policy/federal-register-rulemaking/federal-register-rules/salmonella-not-ready-eat-breaded-stuffed.

Done at Washington, DC.
Paul Kiecker,
Administrator.

[FR Doc. 2023-14008 Filed 6-30-23; 8:45 am]

BILLING CODE 3410-DM-P